DEPARTMENT OF DEFENSE

Department of the Army

Performance Review Boards Membership

AGENCY: Department of the Army, DoD.

ACTION: Notice.

SUMMARY: Notice is given of the names of members of the Performance Review Boards for the Department of the Army.

EFFECTIVE DATE: September 11, 2000.

FOR FURTHER INFORMATION CONTACT: Nancy Quick, U.S. Army Senior Executive Service Office, Assistant Secretary of the Army (Manpower and Reserve Affairs), 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the Office of the Surgeon General are:

1. MG John S. Parker, Commander, Medical Research and Materiel Command;

2. Ms. Sandra R. Riley, Deputy Administrative Assistant to the Secretary of the Army, Office of the Administrative Assistant;

3. Mr. Raymond J. Fatz, Deputy Assistant Secretary of the Army (Environmental Safety and Occupational Health), Office of the Assistant Secretary of the Army (Installations & Environment);

4. Ms. Donna L. Shands, Associate Director of Supply and Maintenance, Office of the Deputy Chief of Staff for Logistics; and

5. Mr. Ronald Richards, Assistant Secretary of Defense, Health Affairs, Office of Health Services Operations and Readiness.

Gregory D. Showalter,
Army Federal Register Liaison Officer.

[FR Doc. 00-23757 Filed 9-14-00; 8:45 am]

BILLING CODE 3710-08-P